DEPARTMENT OF LABOR

Employment and Training Administration

[TA-W-37,906]

Automation Technology Corp., Santa Cruz, CA; Notice of Termination of Investigation

Pursuant to Section 221 of the Trade Act of 1974, an investigation was initiated on July 24, 2000, in response to a petition filed by a company official on behalf of workers at Automation Technology Corp., Santa Cruz, California.

The company official who filed the original petition has requested that the petition be withdrawn. Consequently, further investigation in this case would serve no purpose, and the investigation has been terminated.

Signed at Washington, D.C. this 31th day of October 2000.
Linda G. Poole,
Certifying Officer, Division of Trade Adjustment Assistance.

[FR Doc. 00-29157 Filed 11-14-00; 8:45 am]

BILLING CODE 4510-30-M